DEPARTMENT OF HEALTH AND HUMAN SERVICES

Administration for Children and Families

[CFDA Number: 93.508]

Announcement of the Award of Four Single-Source Program Expansion Supplement Grants To Support Activities Associated With the Tribal Early Learning Initiative

AGENCY: Office of Child Care, ACF, HHS.

ACTION: Notice of award of four single-source program expansion supplement grants to Tribal Maternal, Infant, and Early Childhood Home Visiting (MIECHV) grantees to support their activities as participants in the Tribal Early Learning Initiative.

SUMMARY: The Administration for Children and Families, Office of Child Care, announces the award of single-source program expansion supplement grants to four grantees in the Tribal Maternal, Infant, and Early Childhood Home Visiting (MIECHV) program to support their participation in the Tribal Early Learning Initiative. Each of the following grantees is receiving a supplement in the amount of $15,750.

Grantee | Location
Choctaw Nation of Oklahoma | Durant, OK
Pueblo of San Felipe | San Felipe, NM
Confederated Tribes of Salish and Kootenai | Pablo, MT
White Earth Band of Chippewa Indians | White Earth, MN

The program expansion supplement awards will support expanded services to identify and analyze systems that will improve effectiveness and efficiencies across early childhood programs. The grantees will share action plans to improve outcomes and developing peer learning relationships.

DATES: September 29, 2012-September 30, 2013.

FOR FURTHER INFORMATION CONTACT: Moushumi Beltangady, Office of the Deputy Assistant Secretary for Early Childhood Development, 901 D Street SW., Washington, DC 20447. Telephone: (202) 260-3613; Email: moushumi.beltangady@acf.hhs.gov.

SUPPLEMENTARY INFORMATION: The program expansion supplemental grants will support the effective identification and analysis of actual and potential systems issues faced by tribes receiving all three ACF early learning grants: Head Start/Early Head Start, Tribal Child Care, and Tribal Maternal, Infant, and Early Childhood Home Visiting (MIECHV). The program expansion supplements will support coordination and collaboration activities such as, identifying obstacles that could block efforts to build and maintain partnerships, piloting more effective coordination of Tribal Early Learning Programs, and development of alternative interventions and strategies in line with tribal community values, traditions, and priorities. The Tribal Early Learning Initiative is expected to accomplish the following:

• Identify and analyze systems issues, including obstacles that could block efforts to build and maintain partnerships in tribal communities, to fully and effectively coordinate Tribal Head Start/Early Head Start, Tribal Child Care, and Tribal MIECHV programs (Tribal Early Learning Programs), and to develop a menu of alternative interventions and strategies in line with tribal community values, traditions, and priorities.

• Develop tribally-driven goals and concrete objectives in each local tribal community for building effective and efficient early childhood systems and improved outcomes for young children and families including strategies to support parent, family, and community engagement.

• Develop and carry out concrete community plans for supporting and strengthening cooperation, coordination, and resource sharing and leveraging among programs that support young children and families in the tribal community.

• Share plans of action, barriers and challenges, opportunities and solutions, and the results of action plans with other tribal communities in an effort to further develop peer learning relationships.

The Office of Head Start will separately announce the award four single-source program expansion supplement grants of up to $15,750 to the same grantees to support Head Start-related activities as part of the Tribal Early Learning Initiative.

Statutory Authority: Section 511(h)(2)(A) of Title V of the Social Security Act, as added by Section 2951 of the Patient Protection and Affordable Care Act, Pub. L. 111-148, also known as the Affordable Care Act (ACA).

Shannon L. Rudisill,
Director, Office of Child Care.

[FR Doc. 2012-26743 Filed 10-30-12; 8:45 am]

BILLING CODE 4184-43-P